NATIONAL SCIENCE FOUNDATION

National Science Board; Sunshine Act Meetings; Notice

The National Science Board's Subcommittee on Facilities, pursuant to NSF regulations (45 CFR Part 614), the National Science Foundation Act, as amended (42 U.S.C. 1862n-5), and the Government in the Sunshine Act (5 U.S.C. 552b), hereby gives notice in regard to the scheduling of a meeting for the transaction of National Science Board business and other matters specified, as follows:

Date: December 15, 2010.

Time and Subject Matter Open: 11 a.m. to 12:30 p.m.

• NSF Principles & Portfolio Review

• Future Budgetary Issues FY 2012 and beyond

Status: Closed.

Location: The closed session of this teleconference will be held at the National Science Foundation, 4201 Wilson Blvd., Arlington, VA 22230.

Updates and Point of Contact: Please refer to the National Science Board Web site http://www.nsf.gov/nsb for additional information and schedule updates (time, place, subject matter or status of meeting) may be found at http://www.nsf.gov/nsb/notices/. Point of contact for this meeting is: Jennie Moehlmann, National Science Board Office, 4201 Wilson Blvd., Arlington, VA 22230. Telephone: (703) 292-7000.

Daniel A. Lauretano,
Counsel to the National Science Board.

[FR Doc. 2010-31067 Filed 12-7-10; 4:15 pm]

BILLING CODE 7555-01-P